DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than June 25, 2007.

Interested persons are invited to submit written comments regarding the subject matter of the investigations to the Director, Division of Trade Adjustment Assistance, at the address shown below, not later than June 25, 2007.

The petitions filed in this case are available for inspection at the Office of the Director, Division of Trade Adjustment Assistance, Employment and Training Administration, U.S. Department of Labor, Room C-5311, 200 Constitution Avenue, NW., Washington, DC 20210.

Signed at Washington, DC, this 7th day of June 2007.
Ralph Dibattista,
Director, Division of Trade Adjustment Assistance.

APPENDIX
TAA petitions instituted between 5/29/07 and 6/1/07
TA-W | Subject firm (petitioners) | Location | Date of institution | Date of petition
61588 | Automatic Systems USA, Inc. (Wkrs) | Plattsburgh, NY | 05/29/07 | 05/25/07
61589 | Hi-Craft Engineering Incorporated (State) | Fraser, MI | 05/29/07 | 05/25/07
61590 | Stover Industries, Inc. (MSR) | Pt. Pleasant, WV | 05/29/07 | 05/25/07
61591 | Truth Hardware-East (Comp) | West Hazleton, PA | 05/29/07 | 05/29/07
61592 | AMF Billiards and Games, Inc. (Comp) | Bland, MO | 05/30/07 | 05/29/07
61593 | Teradyne Inc. (State) | Agoura, CA | 05/30/07 | 05/29/07
61594 | Robert Bosch Tool Corporation (Comp) | Lincolnton, NC | 05/30/07 | 05/29/07
61595 | Asheboro Elastics Corporation (Comp) | Asheboro, NC | 05/31/07 | 05/30/07
61596 | Lancaster Preferred Partners (Wkrs) | Lancaster, PA | 05/31/07 | 05/30/07
61597 | Vishay Intertechnology, Inc. (Comp) | City of Industry, CA | 05/31/07 | 05/30/07
61598 | Penn-Plax Inc. (Wkrs) | Hauppauge, NY | 05/31/07 | 05/30/07
61599 | Patrick Industries, Inc. (Comp) | Woodburn, OR | 05/31/07 | 05/30/07
61600 | Chamber's Fabrics, Inc. (Wkrs) | High Point, NC | 05/31/07 | 05/31/07
61601 | Intel Corporation—Fab 23 (Comp) | Colorado Springs, CO | 05/31/07 | 05/30/07
61602 | EGS Electrical Group, Lexington Plant (IBEW) | Lexington, OH | 05/31/07 | 05/30/07
61603 | Gage Pattern Inc. (Wkrs) | Norway, ME | 05/31/07 | 05/30/07
61604 | Bendix (USWA) | Frankfort, KY | 05/31/07 | 05/31/07
61605 | Yamaha Musical Products (Comp) | Grand Rapids, MI | 06/01/07 | 05/09/07
61606 | Qwest Services Corporation (Wkrs) | Denver, CO | 06/01/07 | 05/31/07
61607 | Kirk Lumber Company (Wkrs) | Suffolk, VA | 06/01/07 | 05/30/07
61608 | Personnel Management, Inc. (Wkrs) | Princeton, IN | 06/01/07 | 05/29/07
61609 | Eagle Ottawa Newaygo Farms (State) | Walker, MI | 06/01/07 | 05/23/07
61610 | Ogura Corporation (Wkrs) | Madison Heights, MI | 06/01/07 | 05/30/07
61611 | Danice Manufacturing (Wkrs) | South Lyon, MI | 06/01/07 | 05/23/07

[FR Doc. E7-11474 Filed 6-13-07; 8:45 am]

BILLING CODE 4510-FN-P